DEPARTMENT OF TRANSPORTATION

Research and Special Programs Administration

49 CFR Part 173

Shippers—General Requirements for Shipments and Packagings

CFR Correction

In Title 49 of the Code of Federal Regulations, parts 100 to 185, revised as of October 1, 2004, on page 591, § 173.315 is corrected by adding paragraph (i)(8) to read as follows:

§ 173.315 Compressed gases in cargo tanks and portable tanks.

* * * * *

(i) * * *

(8) Each pressure relief valve outlet must be provided with a protective device to prevent the entrance and accumulation of dirt and water. This device must not impede flow through the valve. Pressure relief devices must be designed to prevent the entry of foreign matter, the leakage of liquid and the development of any dangerous excess pressure.

[FR Doc. 05-55517 Filed 12-7-05; 8:45 am]

BILLING CODE 1505-01-D